ENVIRONMENTAL PROTECTION AGENCY

[EPA-HQ-OAR-2016-0731; FRL-11980-01-OAR]

Proposed Information Collection Request; Revision; Changes to EPA's Natural Gas STAR Program

AGENCY: Environmental Protection Agency (EPA).

ACTION: Notice.

SUMMARY: The Environmental Protection Agency (EPA) is planning to submit a revision information collection request (ICR), “Changes to EPA's Natural Gas STAR Program” (EPA ICR No. 2547.01, OMB Control No. 2060-0722) to the Office of Management and Budget (OMB) for review and approval in accordance with the Paperwork Reduction Act. Before doing so, EPA is soliciting public comments on specific aspects of the proposed information collection as described below. Specifically, EPA is proposing to remove all program partner reporting elements from the ICR, leaving the “Oil and Gas Equipment and Service Providers Directory” as the only component covered under this ICR. This revision is a proposed extension of the ICR titled “EPA's Methane Challenge and Natural Gas STAR Programs,” which is currently approved through December 31, 2024. This notice allows for 60 days for public comments.

DATES: Comments must be submitted on or before August 5, 2024.

ADDRESSES: Submit your comments, referencing Docket ID No. EPA-HQ-OAR-2016-0731 online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Andrew Meluch, Office of Atmospheric Programs, Climate Change Division, (6207A), Environmental Protection Agency, 1200 Pennsylvania Ave. NW, Washington, DC 20460; telephone number: (202) 564-4762; email address: meluch.andrew@epa.gov.

SUPPLEMENTARY INFORMATION: This revision is a proposed extension of the ICR titled “EPA's Methane Challenge and Natural Gas STAR Programs,” which is currently approved through December 31, 2024. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: The Natural Gas STAR Program and Methane Challenge Partnership (“Gas STAR Programs”) are voluntary programs sponsored by the U.S. Environmental Protection Agency (EPA) that have encouraged oil and natural gas companies to adopt cost effective technologies and practices that improve operational efficiency and reduce methane emissions. Methane is the primary component of natural gas and a potent greenhouse gas. The Programs have worked with oil and natural gas companies in the production, gathering & boosting, processing, transmission & storage, and distribution segments to remove barriers that inhibit the implementation of technologies and practices that reduce methane emissions. EPA has recently taken historic steps to tackle wasteful methane emissions from the oil and gas sector beyond voluntary action. The Inflation Reduction Act directed EPA to implement a suite of actions to swiftly reduce methane emissions through the creation of the Methane Emissions Reductions Program (MERP). On December 2, 2023, EPA announced final New Source Performance Standards and Emissions Guidelines (NSPS/EG) to regulate the oil and gas industry under the Clean Air Act, resulting in ambitious requirements to reduce methane from both new and existing sources. The Department of Transportation has also imposed requirements on the transmission segment including implementation of the PIPES Act of 2020. Based on the limited remaining potential for voluntary actions to reduce methane emissions, EPA will be sunsetting the Methane Challenge Partnership, and transitioning its outreach efforts to advance ambitious, sector-wide methane reductions through technical assistance and outreach under the Methane Emissions Reduction Program. This follows EPA's sunsetting of the partnership agreements, implementation plans, and the reporting component of the Natural Gas STAR Program in 2022. Updating the ICR for the Methane Challenge Partnership and the Natural Gas STAR Program to reflect these programmatic changes is expected to significantly decrease burden by removing all partner reporting and partnership related data sharing aspects. The sole programmatic element involving voluntary collection of information the EPA plans to retain is the Oil and Gas Equipment and Service Providers Directory. This directory's purpose is to share information about service and technology providers that can facilitate methane emission reduction activities in the oil and gas sector.

Form Numbers: The Natural Gas STAR Program's Oil and Gas Equipment and Service Providers Directory collects information via a webform, Service Providers Directory: EPA Form No. 5900-502; located at the following URL: https://www.epa.gov/natural-gas-star-program/forms/join-oil-and-gas-equipment-and-service-providers-directory.

Respondents/affected entities: The Natural Gas STAR Program's Oil and Gas Equipment and Service Providers Directory is open to companies that offer services, technologies, and/or equipment that can help oil and gas operators reduce their methane emissions. EPA does not specifically endorse any product, technology, equipment, or service listed in the Program's Directory.

Respondent's obligation to respond: Voluntary.

Estimated number of respondents: 50 vendors (total).

Frequency of response: Semi-annual.

Total estimated burden: 13 hours (per year) for the Natural Gas STAR Program. Burden is defined at 5 CFR 1320.03(b).

Total estimated cost: $3,549 (per year) for the Natural Gas STAR Program. There are no capital/start-up costs or O&M costs associated with this information collection.

Changes in Estimates: EPA expects that the burden associated with the final ICR submission for the Natural Gas STAR Program will decrease significantly compared to its previous estimated burden due to modifying this ICR to remove all Methane Challenge partnership agreement forms, implementation plans, reporting forms, and fact sheets.

Sharyn Lie,
Director, Climate Change Division.

[FR Doc. 2024-12260 Filed 6-4-24; 8:45 am]

BILLING CODE 6560-50-P